FEDERAL MARITIME COMMISSION

Ocean Transportation Intermediary Licenses; Correction

In the OTI Applicant Notice published in the Federal Register on October 17, 2007 (72 FR 58850) reference to the name of the Manns Freight Systems, Inc. dba Guardian Global Transport is corrected to read: “Manna Freight Systems, Inc. dba Guardian Global Transport”

Dated: November 9, 2007.
Karen V. Gregory,
Assistant Secretary.

[FR Doc. E7-22383 Filed 11-14-07; 8:45 am]

BILLING CODE 6730-01-P